NATIONAL FOUNDATION ON THE ARTS AND THE HUMANITIES

Institute of Museum and Library Services

Notice; National Leadership Grant for Libraries

SUMMARY: The Institute of Museum and Library Services has prepared a report regarding two funding categories for its National Leadership Grant for Libraries: education and training, and research and demonstration. The full text of the report can be found on the IMLS web site at http://www.imls.gov/grants/library/lib_nlgl.asp#adv or received by contacting the Institute at the address below.

The Institute of Museum and Library Services' National Leadership Grants for libraries are designed to support leading edge activities in the field of library and information science. In 1999, IMLS awarded over $10 million in awards for model projects in education and training, research and demonstration and the preservation and archiving of digital media. These grants also help to build digital library resources and to promote cooperation between libraries and museums. The Institute is the only federal agency that administers grants specifically targeted for libraries, library education and library research.

IMLS places a high priority on developing ongoing and open communication with the constituents it serves. Dialogue is essential to assuring that policy and grant making procedures are developed in concert with the needs of the library community. To further this dialogue IMLS held a series of meetings in 1999 in Washington, DC, with library leaders to exchange ideas about priorities for the education and training, and research and development grant categories of National Leadership Grants. The meetings were designed to promote discussion among library leaders to help ensure that funding priorities address current problems and provide leadership for future needs.

IMLS is an independent Federal grantmaking agency that fosters leadership, innovation, and a lifetime of learning by supporting the nation's 8,000 museums and 122,000 libraries. Created by the Museum and Library Services Act of 1996, P.L. 104-208, IMLS has an annual budget of $190 million. For more information about IMLS contact: Institute of Museum and Library Services, 1100 Pennsylvania Avenue, NW, Washington, DC 20506, (202) 606-8536, or http://www.imls.gov.

FOR FURTHER INFORMATION CONTACT: Comments and questions received by March 17, 2000 will be most useful. All interested parties should respond to: Barbara Holton, Office of Library Services, Institute of Museum and Library Services, 1100 Pennsylvania Avenue, Washington, DC 20506, bholton@imls.gov.

Mamie Bittner,
Director, Public and Legislative Affairs, Institute of Museum and Library Services.

[FR Doc. 00-1588 Filed 1-21-00; 8:45 am]

BILLING CODE 7036-01-M